DEPARTMENT OF HEALTH AND HUMAN SERVICES

Food and Drug Administration

Advisory Committee; Renewals

AGENCY: Food and Drug Administration, HHS.

ACTION: Notice.

SUMMARY: The Food and Drug Administration (FDA) is announcing the renewal of certain FDA advisory committees by the Commissioner of Food and Drugs (the Commissioner). The Commissioner has determined that it is in the public interest to renew the charters of the committees listed in the following table for an additional 2 years beyond charter expiration date. The new charters will be in effect until the dates of expiration listed in the following table. This notice is issued under the Federal Advisory Committee Act of October 6, 1972 (Public Law 92-463 (5 U.S.C. app. 2)).

DATES: Authority for these committees will expire on the dates indicated in the following table unless the Commissioner formally determines that renewal is in the public interest.

Name of committee | Date of expiration
National Mammography Quality Assurance Advisory Committee | July 6, 2005
Nonprescription Drugs Advisory Committee | August 27, 2005
Advisory Committee on Special Studies Relating to the Possible Long-Term Health Effects of Phenoxy Herbicides and Contaminants | December 2, 2005
Food Advisory Committee | December 18, 2005
Vaccines and Related Biological Products Advisory Committee | December 31, 2005
Advisory Committee for Pharmaceutical Science | January 22, 2006
Gastrointestinal Drugs Advisory Committee | March 3, 2006
Advisory Committee for Reproductive Health Drugs | March 23, 2006
Arthritis Advisory Committee | April 5, 2006
Veterinary Medicine Advisory Committee | April 24, 2006

FOR FURTHER INFORMATION CONTACT: Linda A. Sherman, Advisory Committee Oversight and Management Staff (HF-4), Food and Drug Administration, 5600 Fishers Lane, Rockville, MD 20857, 301-827-1220.

Dated: May 5, 2004.
Peter J. Pitts,
Associate Commissioner for External Relations.

[FR Doc. 04-10832 Filed 5-12-04; 8:45 am]

BILLING CODE 4160-01-S